DEPARTMENT OF TRANSPORTATION

National Highway Traffic Safety Administration

[Docket No. NHTSA-2007-26995]

Notice of Receipt of Petition for Decision That Nonconforming 1996 BMW K75 Motorcycles Are Eligible for Importation

AGENCY: National Highway Traffic Safety Administration, DOT.

ACTION: Notice of receipt of petition for decision that nonconforming 1996 BMW K75 motorcycles are eligible for importation.

SUMMARY: This document announces receipt by the National Highway Traffic Safety Administration (NHTSA) of a petition for a decision that 1996 BMW K75 motorcycles that were not originally manufactured to comply with all applicable Federal motor vehicle safety standards (FMVSS) are eligible for importation into the United States because they have safety features that comply with, or are capable of being altered to comply with, all such standards.

DATES: The closing date for comments on the petition is 30 days after publication in the Federal Register.

ADDRESSES: Comments should refer to the docket number and notice number, and be submitted to: Docket Management, Room PL-401, 400 Seventh St., SW., Washington, DC 20590. [Docket hours are from 9 am to 5 pm.] Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: Coleman Sachs, Office of Vehicle Safety Compliance, NHTSA (202-366-3151).

SUPPLEMENTARY INFORMATION:

Background

Under 49 U.S.C. 30141(a)(1)(B), a motor vehicle that was not originally manufactured to conform to all applicable FMVSS, and has no substantially similar U.S.-certified counterpart, shall be refused admission into the United States unless NHTSA has decided that the motor vehicle has safety features that comply with, or are capable of being altered to comply with, all applicable FMVSS based on destructive test data or such other evidence as NHTSA decides to be adequate.

Petitions for eligibility decisions may be submitted by either manufacturers or importers who have registered with NHTSA pursuant to 49 CFR Part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

US SPECS of Aberdeen, Maryland (Registered Importer 03-321) has petitioned NHTSA to decide whether nonconforming 1996 BMW K75 motorcycles are eligible for importation into the United States. US SPECS believes that these vehicles can be made to conform to all applicable FMVSS.

In its petition, US SPECS asserted that the nonconforming 1996 BMW K75 motorcycles are substantially similar to conforming 1995 BMW K75 vehicles that were originally manufactured for importation into and sale in the United States and that were certified by their manufacturer (BMW) as complying with the safety standards. Also, NHTSA has granted import eligibility to nonconforming 1995 BMW K75S motorcycles (covered by vehicle eligibility number VSP-229). Because BMW K75 motorcycles were not manufactured for importation into and sale in the United States as model year 1996 vehicles, and were not certified by BMW as conforming to all applicable FMVSS, no vehicle can be categorized as “substantially similar” to the nonconforming 1996 BMW K75 motorcycles for the purpose of establishing import eligibility under 49 U.S.C. 30141(a)(1)(A). Therefore, US SPECS' petition is being processed pursuant to 49 U.S.C. 30141(a)(1)(B) alone.

US SPECS submitted information with its petition intended to demonstrate that non-U.S. certified 1996 BMW K75 motorcycles, as originally manufactured, comply with many applicable FMVSS and are capable of being modified to comply with all other applicable standards to which they were not originally manufactured to conform.

Specifically, the petitioner claims that 1996 BMW K75 motorcycles have safety features that comply with Standard Nos. 106 Brake Hoses, 116 Motor Vehicle Brake Fluid, 119 New Pneumatic Tires for Vehicles Other than Passenger Cars, and 122 Motorcycle Brake Systems.

The petitioner further contends that the vehicles are capable of being altered to comply with the following standards, in the manner indicated:

Standard No. 108 Lamps, Reflective Devices and Associated Equipment: inspection of all vehicles and replacement of the following with U.S.-model components on vehicles not already so equipped: (a) headlamps; (b) front and rear side reflex reflectors; (c) rear reflex reflector; (d) tail lamp assembly; and (e) front and rear turn signal lamps.

Standard No. 111 Rearview Mirrors: installation of a U.S.-model passenger side rearview mirror, or inscription of the required warning statement on the face of that mirror.

Standard No. 120 Tire Selection and Rims for Vehicles other than Passenger Cars: installation of a tire information placard.

Standard No. 123 Motorcycle Controls and Displays: (a) installation of a U.S.-model speedometer and odometer, or modification of the speedometer and odometer so that they read in miles per hour and miles traveled; and (b) installation of an ignition switch label.

Comments should refer to the docket number and be submitted to: Docket Management, Room PL-401, 400 Seventh Street, SW., Washington, DC 20590. It is requested but not required that 10 copies be submitted.

All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(A) and (b)(1); 49 CFR 593.8; delegations of authority at 49 CFR 1.50 and 501.8.

Issued on: January 22, 2007.
Claude H. Harris,
Director, Office of Vehicle Safety Compliance.

[FR Doc. E7-1189 Filed 1-25-07; 8:45 am]

BILLING CODE 4910-59-P